DEPARTMENT OF THE INTERIOR

Bureau of Land Management

[F-14932-A, F-14932-C, F-14932-D, F-14932-E, and F-14932-F; AK-965-1410-KC-P]

Alaska Native Claims Selection

AGENCY: Bureau of Land Management, Interior.

ACTION: Notice of decision approving lands for conveyance.

SUMMARY: As required by 43 CFR 2650.7(d), notice is hereby given that an appealable decision approving the surface estate of certain lands for conveyance pursuant to the Alaska Native Claims Settlement Act will be issued to Shaktoolik Native Corporation. The lands are in the vicinity of Shaktoolik, Alaska and are located in:

Lot 2, Tract 1, U.S. Survey No. 3779, Alaska.

Containing 0.08 acres.

Kateel River Meridian, Alaska

T. 11 S., R. 11 W.,

Secs. 1 to 4, inclusive;

Secs. 11, 12, and 13;

Secs. 19 to 28, inclusive.

Containing approximately 9,541 acres.

T. 14 S., R. 11 W.,

Secs. 29 to 32, inclusive.

Containing approximately 2,508 acres.

T. 15 S., R. 11 W.,

Secs. 6 and 7.

Containing 1,227.47 acres.

T. 12 S., R. 12 W.,

Secs. 5, 8, and 17.

Containing 1,920 acres.

T. 15 S., R. 12 W.,

Secs. 1, 12, 13, 24, 25, and 36.

Containing approximately 1,780 acres.

T. 13 S., R. 13 W.,

Secs. 5, 6, and 9.

Containing approximately 148 acres.

T. 15 S., R. 13 W.,

Secs. 31 and 32.

Containing 57 acres.

Total Aggregating of sec. 12(a) is approximately 17,181 acres.

The subsurface estate in these lands will be conveyed to Bering Straits Native Corporation when the surface estate is conveyed to Shaktoolik Native Corporation. Notice of the decision will also be published four times in the Nome, Nugget.

DATES: The time limits for filing an appeal are:

1. Any party claiming a property interest which is adversely affected by the decision shall have until August 3, 2009 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Eileen Ford,
Land Transfer Resolution Specialist, Land Transfer Adjudication II Branch.

[FR Doc. E9-15654 Filed 7-1-09; 8:45 am]

BILLING CODE 4310-JA-P